DEPARTMENT OF ENERGY

National Nuclear Security Administration; Emergency Activities Conducted at Los Alamos National Laboratory, Los Alamos County, New Mexico in Response to Major Disaster Conditions Associated With the Cerro Grande Fire

AGENCY: Department of Energy.

ACTION: Notice of emergency action.

SUMMARY: The U.S. Department of Energy (DOE) is issuing this notice of emergency activities conducted at Los Alamos National Laboratory (LANL), Los Alamos County, New Mexico, in response to the recent Cerro Grande Fire. DOE's emergency response activities began with certain preventive actions undertaken immediately before the wildfire entered LANL boundaries in early May 2000, and include those actions taken while the fire burned within LANL boundaries, as well as related subsequent actions (as described below) that are ongoing since the fire was contained and extinguished to address the extreme potential for flooding damage.

About 7,500 acres of land administered by DOE at LANL burned during the Cerro Grande Fire, while another 35,500 acres burned along the mountain flanks above LANL and to the north of the site making this New Mexico's most destructive fire in recorded history. With such large areas of burned vegetation, including areas of bare ash along the steep slopes and canyon sides above LANL, there is a very high risk for flooding within the LANL facility and in residential communities downstream all the way to the Rio Grande. About 36 percent of the annual precipitation for the Los Alamos area falls in the form of rain, primarily during intense thunderstorms that occur in July and August each year, but which may occur as early as June and as late as in October. The time period for the DOE's Cerro Grande Fire emergency actions discussed in this Notice, therefore, extends through November 2000.

Flood control measures of temporary, semi-permanent, and permanent natures must be taken immediately to prevent the potential loss of life and property damage from this threat, and also to protect sensitive cultural resources and potential habitat for Federally-listed threatened and endangered species present within floodplain areas. Moreover, there are 74 potential contaminant release sites (PRSs) and two nuclear facilities at LANL that contain hazardous and radioactively contaminated soils and materials that are vulnerable to flooding. The PRSs and nuclear facilities have the potential to release contaminants downstream. Some 10,000 residents live in communities located downstream from LANL; lands of Pueblo de Cochiti lie to the south along the Rio Grande, as does Cochiti Reservoir, which is a popular recreation and fishing site. Until enough vegetation is established to cover the hillsides and canyons to act as a deterrent to soil erosion and flooding, the potential for flooding will exist for the next several years to decades in some locations.

DOE would normally prepare an environmental impact statement analyzing the actions described for public review and comment pursuant to its National Environmental Policy Act (NEPA) implementing regulations (10 CFR part 1021). However, due to the urgent nature of the actions required to address the effects of the Cerro Grande Fire and the potential for severe flooding impacts, DOE prepared this notice regarding emergency actions pursuant to 10 CFR 1021.343. Because the cumulative impacts of these actions are significant, DOE has consulted with the Council on Environmental Quality about alternative arrangements with regard to NEPA compliance for its emergency actions pursuant to the Council NEPA regulation at 40 CFR 1506.11. Consistent with those consultations, DOE will prepare a special environmental analysis of known and potential impacts from wildfire and flood control actions as the “alternative arrangement” contemplated by the Council on Environmental Quality regulation. The special environmental analysis is scheduled to be completed in September 2000 and will be available to the public. DOE will continue to employ a variety of mechanisms, as explained below, to facilitate public involvement. DOE will consider public comments received on this Notice of Emergency Action and will also consider public comments received on the special environmental analysis in planning future mitigation actions. This compliance strategy may be modified or altered as conditions warrant.

This notice also serves as the Public Notice and Statement of Findings regarding DOE's intention to take action involving construction and other actions within floodplains and wetlands pursuant to DOE's regulations for Compliance with Floodplain/Wetlands Environmental Review Requirements (10 CFR part 1022). As provided in 10 CFR 1022.18, and because there is an immediate need to take emergency flood control and hazard reduction actions, DOE is waiving the public review periods that would otherwise apply before DOE would take such actions in a floodplain or wetland.

FOR FURTHER INFORMATION AND TO SUBMIT COMMENTS, CONTACT: For further information on these activities or other information related to this Notice, contact: Elizabeth Withers, NEPA Compliance Officer, U.S. Department of Energy, Los Alamos Area Office, 528 35th Street, Los Alamos, NM 87544, phone (505) 667-8690, fax (505) 665-4872.

For information on the DOE National Environmental Policy Act (NEPA) process, contact: Carol M. Borgstrom, Director, Office of NEPA Policy and Assistance (EH-42), U.S. Department of Energy, 1000 Independence Avenue, SW, Washington, DC 20585, (202) 586-4600, or leave a message at (800) 472-2756.

For more information regarding activities related to the Cerro Grande Fire and the LANL Emergency Rehabilitation Team, including relevant phone numbers, visit the LANL web site at www.lanl.gov.

SUPPLEMENTARY INFORMATION: On the evening of May 4, 2000, employees of the Department of the Interior, National Park Service, Bandelier National Monument, ignited a prescription burn within the boundaries of Bandelier National Monument at a location identified as the Cerro Grande. This fire was quickly pushed by winds outside the boundaries of the prescription area and was declared by the National Park Service to be a “wildfire” on May 5, 2000. The fire spread rapidly in a generally northeastern/eastern direction across land administered by the Department of Agriculture, Forest Service, Santa Fe National Forest. Starting late on May 7, through May 8 and 9, while winds were somewhat moderate, shrubs and trees were cut and back fires were ignited in an effort to hold the fire line at New Mexico State Road 501, which is located at the northwestern side of LANL. A very narrow strip of land a few hundred feet wide is present within that back fire area that is administered by DOE as a part of LANL property. The wind speed increased dramatically on May 10, 2000, and spread sparks over a mile in advance of the wildfire fronts and well beyond the established fire lines, igniting forested areas within the heart of LANL and residential areas within the Los Alamos townsite located nearby.

From May 10 until about May 17, the fire burned within LANL and the townsite area before its spread was stopped and it was considered contained. About 7,500 acres of land administered by DOE at LANL burned during the Cerro Grande Fire; another 35,500 acres burned along the mountain flanks above LANL and to the north of the site. Over 200 residential units occupied by over 400 families burned within the Los Alamos townsite. This fire has consumed more forest acreage and resulted in more property loss than any other fire in New Mexico's recorded history. Small spot fires that periodically flare up, as well as subsurface smoldering, continue to be extinguished within LANL's boundaries and nearby.

During the efforts undertaken to contain and extinguish the fire within LANL, various fire lines were created at several locations within the LANL boundaries using hand tools and heavy machinery to establish clearings; fire access roads were bladed or existing roads were improved for use by heavy transport equipment and fire trucks; trees were mechanically felled to protect exposed utility lines and structures; small back fires were set in locations around LANL to protect buildings and utilities; and water drops and fire-retardant slurry drops were made over LANL from low flying helicopters and airplanes.

After the fire was controlled and had been extinguished (except for occasional flare ups and smoldering hot spots), DOE's planning for stormwater runoff damage was initiated through a cooperative effort with the U.S. Forest Service; the U.S. Army Corps of Engineers; the Department of the Interior's National Park Service and Bureau of Indian Affairs, Northern Pueblos Agency; Pueblo of San Ildefonso; Pueblo of Santa Clara; Pueblo of Jemez; Pueblo de Cochiti; the State of New Mexico's Department of Game and Fish and Department of the Environment; the County of Los Alamos; and various other federal, state and local government agencies and entities, including representatives of the University of California (which currently manages and operates LANL under contract to the DOE). This ongoing effort is coordinated and facilitated by the U.S. Forest Service's Burned Area Emergency Rehabilitation (BAER) Team, a multidisciplinary team of individuals experienced in such planning exercises and in the implementation of erosion and flood control measures.

About 36 percent of the annual precipitation for LANL falls in the form of rain, primarily during intense thunderstorms occurring in July and August of each year, though the rainy season may start as early as June and extend through October. With large areas of burned vegetation, including areas of bare ash along the steep slopes and canyon sides above LANL, there is a very high risk for flooding within the LANL facility and to area residential communities downstream all the way to the Rio Grande. There are 74 potential contaminant release sites (PRSs) and two nuclear facilities at LANL that contain hazardous and radioactively contaminated soils and materials that are vulnerable to flooding. These PRSs and nuclear facilities have the potential to release contaminants downstream. Canyon stormwater discharge flow measurements for a six-hour storm event time period at LANL typically are in the range of about 35 to 590 cubic feet per second; post-fire modeling estimates the canyon discharge flows (unmodified) to be in the range of 90 to 2182 cubic feet per second for the same duration storm events. Some canyons are expected to have even greater flow amounts over some areas due to location specific site conditions after the fire.

It is extremely important that erosion and flood control measures be implemented immediately to protect lives and property from damage by soil erosion and flooding, and also to protect sensitive cultural resources and potential habitat for Federally-listed threatened and endangered species present within floodplain areas. Some 10,000 residents live in communities located downstream from LANL; lands of Pueblo de Cochiti lie to the south along the Rio Grande, as does Cochiti Reservoir, which is a popular recreation and fishing site. The planned flood control measures are of temporary, semi-permanent and permanent natures. The potential for flooding will exist for the next several years to decades in some locations until enough vegetation is established to cover the hillsides and canyons to act as a sufficient deterrent to the soil erosion and flooding threat.

The potential for a wildfire occurring at LANL and its subsequent impacts was considered in the LANL Site-wide Environmental Impact Statement (LANL Site-wide EIS) issued by DOE in February 1999. In that analysis, a wildfire scenario was considered that was similar in intensity and nature to the actual Cerro Grande Fire. The identified impacts in that document that correlate with the real fire include the actual path of the fire into the LANL facility and its consumption of about 8,000 acres of forest; the burning over of identified potential contaminant release sites and subsequent airborne contaminant fraction (during and subsequent to the actual fire, however, air monitoring stations did not detect and have not detected any contaminant releases above the normal background levels of naturally occurring elements and common substances associated with burning trees); the loss of protective groundcover and subsequent increase in soil erosion and flooding; the potential for movement downstream of contaminants in silt and soil; adverse effects on wildlife and biological systems; and adverse effects on cultural resources.

Various impact mitigations were identified through the LANL Site-wide EIS analysis, including the need to remove vegetation and combustibles around certain high risk buildings and structures around LANL (this action was completed before the fire occurred); and interagency efforts to reduce vegetation fuel loading within neighboring lands administered by Bandelier National Monument, the Santa Fe National Forest and DOE (the prescribed fire that ignited the Cerro Grande Fire was a part of this LANL-area effort).

In late 1999, DOE notified LANL stakeholders, including local pueblos and tribes, and various identified interested parties of its intent to prepare an Environmental Assessment (EA) for a proposed wildfire hazard reduction and forest health improvement management program at LANL. This draft EA was scheduled to be released to the stakeholders for review during the week of May 8, 2000. This proposed long-term management program would allow DOE to thin forest vegetation to an appropriate level and then maintain it at that level in the long term to accomplish both the reduction of wildfire hazards and to improve the overall health of the forest resources at LANL. This management program still has merit and changes are therefore now being made to the draft EA to reflect the changed environmental conditions since the Cerro Grande Fire. This EA will not analyze the environmental impacts resulting from actions discussed in this Notice of Emergency Action. The draft EA is now scheduled to be issued for review and comment at the end of June 2000.

Emergency Actions To Address Cerro Grande Fire Impacts

The following paragraphs list the activities undertaken by DOE during the Cerro Grande Fire, assessment activities taken immediately thereafter, and actions that have been initiated and which will be completed over about the next five months to address the adverse impacts of the fire and subsequent potential erosion and flooding. These measures have been designed to protect the various natural and cultural resources at LANL, as well as the LANL structures, operations, infrastructure, and employee population, and to protect the citizens and their properties within the communities of White Rock, Pueblo of San Ildefonso, and Pueblo de Cochiti located downstream of LANL, and, finally, to protect the water quality of the Rio Grande and nearby Cochiti Reservoir.

I. Fire Suppression Response Activities Conducted on DOE-Administered Lands

Routine operations at LANL were suspended from May 8, 2000 until May 23, 2000, when non-emergency response employees were allowed to return. The restriction to low-flying aircraft over the LANL reserve was rescinded to allow fire fighting measures from the air to be undertaken most advantageously. Non-DOE fire response personnel were permitted access to DOE-administered lands to suppress fire and protect property. DOE-controlled roads were closed to public use for more than two weeks. Fire breaks and fire access roads were bladed at several LANL locations using heavy equipment and by hand-held tools. Tree cutting ahead of the fire was performed around buildings, utility lines and infrastructure locations. Back-burn fires were set ahead of the main fire and around buildings and utilities to help suppress the fire. A temporary water supply station (a “pumpkin tank”) to supply water for water-tanker helicopters was brought in and used during the fire suppression stage. Frequent helicopter over-flights to deliver water onto the fire during the daytime hours were made. Single nighttime over-flights by airplane to assess fire size using infrared imagery were employed. DOE and New Mexico Environment Department environmental sampling stations were set up to monitor smoke, ash, and contaminants.

II. Immediate Follow-on Response and Stabilization Activities on DOE-Administered Lands, Including Preliminary Assessment of Environmental Damage From Fire and Potential Erosion and Flooding

Field surveys were conducted on-foot and by helicopter and airplane as soon as possible after fire suppression to determine the extent of fire damage to LANL facilities and forest resources, post-fire condition of soils and vegetation, potential for stormwater runoff, presence of threatened or endangered species and other wildlife, and cultural resources damages. The following actions were identified as needing to be undertaken to control potential erosion and abate flooding risks. Steps to conduct these activities are already underway, and it is expected that these actions will be completed over the next five months.

Environmental Monitoring Stations

Damaged air and surface water monitoring stations are being repaired or replaced. Groundwater monitoring wells are being protected from potential floods. Rain and stream flow gauges are being installed as needed to monitor for flood conditions.

Contaminant monitoring of key watersheds for sediment transport, surface water flow, alluvial water, and ash flow, are being continued and will be expanded as necessary, as will air monitoring and groundwater monitoring stations outside LANL within surrounding community areas.

Potential Release Sites or PRS (Resource Conservation and Recovery Act regulated sites) and Potential Contamination Issue Areas

The condition of any known PRS potentially affected by the fire or related flooding actions are being identified and assessed. Actions are on-going to stabilize damaged sites or treat, remove, and dispose of contaminants, if prudent.

Potential contamination issue areas, such as canyon bottoms, are being assessed. Excavation and removal of potentially contaminated soils or sediments may be required.

Cultural Resources

The number and extent of damage to cultural resources and historic properties at LANL are being determined and documented. Protection or stabilization of damaged or vulnerable sites is being conducted if required. The LANL burned areas include at least 430 known archeological sites, an unknown amount of traditional cultural properties, several historic homesteader cabins, and several Manhattan Project buildings and structures. The Advisory Council on Historic Preservation, New Mexico State Historic Preservation Officer, the Governors of the Pueblo de Cochiti, Pueblo of Jemez, Pueblo of Santa Clara and Pueblo of San Ildefonso, and the President of the Mescalero Apache Tribe were notified in accordance with the Emergency Situation procedures contained in the implementing regulations of section 106 of the National Historic Preservation Act of 1966 as amended (36 CFR 800.12) and invited to comment on DOE's anticipated erosion and flood control measures and cultural and historic property treatments. No comments were received. An assessment of the detailed effects of the fire on cultural resources will be compiled and provided to these stakeholders. Members of the Advisory Council on Historic Preservation visited LANL on June 14, 2000.

Threatened and Endangered Species

A determination of fire and any post-flooding effects on nesting Mexican spotted owls and their habitat is being made through field visits. Similar effects on Southwestern willow flycatcher and bald eagle habitat are also being determined. Emergency consultation with the U.S. Fish and Wildlife Service was initiated by DOE as required under section 7 of the Endangered Species Act and the Department of the Interior and Department of Commerce interagency cooperation regulations (50 CFR 402.05). The consultation was conducted as a cooperative effort with the Department of Agriculture, Santa Fe National Forest; Department of the Interior, Bandelier National Monument, and the Bureau of Indian Affairs, Santa Clara Pueblo Tribal Counsel. DOE determined that emergency actions taken at LANL to suppress the fire and those emergency actions already taken and to be taken as flood control measures may affect, but are not likely to adversely affect, individuals of Federally-listed threatened or endangered species or their potential critical habitat. To date, U.S. Fish and Wildlife Service staff have expressed oral concurrence with that determination, and they are expected to provide written concurrence soon. Staff of the New Mexico Ecological Services Field Office, U.S. Fish and Wildlife Service, visited LANL on June 13, 2000.

Utilities and Infrastructure

Routine LANL mission operations are being re-initiated using a phased start-up approach, including replacement of various filters, monitors, alarms, cables, and other facility health and safety features; cleaning of all buildings and structures; and replacement of equipment and furnishings, such as computers and carpets, damaged by fire or smoke.

Damage to buildings and structures are being repaired, including repair to roofs, walls, doors and windows.

DOE-controlled roads are being reopened to public access; hazardous trees along these roads and in other occupied areas at LANL are being cut and removed from the site; hazard signs are being installed in potential flood-prone areas; hiking and running trails and paths are being repaired or closed to public use.

Damaged utility, security, and communication lines, poles, transformers, and other related structures will be repaired or replaced, and new lines and systems or equipment such as emergency generators are being installed where needed to provide a redundancy of service to vulnerable or critical areas.

Damaged road surfaces, guard rails, temporary structures, small storage structures or facility equipment and automobiles/trucks are being repaired or replaced.

New fire-breaks and fire access roads have been bladed and existing breaks and roads are being repaired or restored.

Helicopters and ground fire-fighting equipment are being used at LANL to fight hotspots; and helicopters are being used to deliver supplies into difficult to reach forested hillside areas. Upon total fire suppression and completion of forest rehabilitation activities, the LANL fly-over restriction by low flying aircraft will be reinstated.

The potential for flooding from rain and stormwater runoff is being assessed. Types of actions to be taken to mitigate these potential effects include the redirection or reduction of water flow using comb and contour tree felling; hill-side raking, localized terracing or contour trenching; installation and use of mulching material by hand or machinery (including hydro-mulching measures), silt fences, straw bale and straw wattles, sandbags, log erosion barriers, concrete barriers, earthen berms, pre-fabricated debris catchers, culverts, sediment traps, dams, catchment and overflow basins, and the installation of other temporary or long-term flood and erosion devices and use of other control techniques. These actions that are on-going to prevent life-threatening flooding to downstream communities may involve the use of hand-held tools (such as rakes for hillside terracing) or heavy machinery (such as in the case of creating earthen berms and dams) and may involve large acreages.

Miscellaneous Hazard Reduction Actions

Mechanical means, such as hand-held tools and small machinery, are being used to break-up hydrophobic soils and stabilize soils. Steep slope areas have been seeded using hand methods and small airplanes.

Both un-contaminated and contaminated wastes resulting from the fire are being removed and disposed of as appropriate, including removal of asbestos and lead paint as needed.

Some unpaved facility access roads are being re-graded and repaired as needed.

Culverts are being evaluated, cleaned, replaced or enlarged as needed and existing rock gabions (usually formed of wire mesh forms containing rocks or boulders) are being upgraded and repaired, and new ones installed as needed; any potential water flow impediments are being removed as necessary (such as pedestrian foot bridges in some stream-bed locations).

Emergency community alert alarm systems and remote automated weather stations are being installed near roadways or where needed.

Water storage tanks and pipes at LANL are being drained and flushed, including waste treatment lines, as needed.

Stormwater runoff from Pajarito Canyon may be diverted into Water Canyon as determined necessary to protect White Rock residents and LANL facilities. This may involve the cutting of trenches or similar devices into areas that are presently undisturbed.

Planning for the possible temporary relocation of hazardous materials, special nuclear material and related operations within LANL is being conducted and any removal of such materials and operations deemed necessary is being undertaken using appropriate packaging and transportation methods. Receiving facilities will be compatible with the materials and operations removed there or will undergo appropriate modification to enable them to function appropriately.

Planning for the possible relocation of employees out of vulnerable facilities will be conducted; some relocation of employees into temporary quarters, as deemed necessary, is on-ongoing. This may involve the placement of trailers or similar structures within already developed areas where utilities are available, or the leasing of available off-site office facilities, or similar actions.

Damaged, dying, or dead trees near structures, buildings, drainages and roads are being cut and removed along with trees cut during fire suppression efforts. These trees are being felled in place to perform erosion control.

Other Miscellaneous Recovery Actions

A permit(s) for the use of DOE-administered land will be issued to private parties and/or local government entities for community recovery efforts and measures, including staging of equipment, building materials, temporary housing units (such as mobile homes and trailers), temporary storage facilities, and similar actions, and the use of some land tracts (such as the DP Road Tract and the White Rock Tract) for up to three years for temporary residences. It is possible that up to 200 temporary housing units would be installed on DOE-managed land, which would be occupied by about 500 persons. The permitted parties could install permanent and temporary utility infrastructure as well as other infrastructure such as roads and sidewalks.

The effects of reseeding and revegetation efforts, as well as other hazard reduction actions, will be monitored annually for at least the next five years. Repair, replacement or repetition of these actions will be undertaken as needed. Assessments and reevaluations of management plans for various natural and cultural resources within LANL will be undertaken and implemented as appropriate.

Environmental Impacts

These listed actions have resulted, or will result, in localized and general environmental impacts that range from beneficial to significantly adverse. The following qualitative discussions briefly identify anticipated impacts that are or could be associated with these actions.

Fire suppression response activities undertaken while the fire front raged through LANL property likely resulted in relatively minor impacts that were environmentally beneficial from the standpoint of reducing fire intensity and severity and suppressing the fire. The suspension of routine operations at LANL, and the closing of roads to public use, during the fire significantly reduced the potential for employee and public health risks and enhanced the ability of the Los Alamos townsite and White Rock to be evacuated quickly, thereby aiding in the overall protection of human life for the residents of the local communities.

During the fire DOE allowed aircraft to fly over LANL lands and allowed fire fighters to enter the facility and engage in fire suppression activities. These actions may have had localized adverse environmental effects including the impacts of water dropping from a height onto exposed soil, vegetation and possibly onto cultural resources; soil disturbance, tree damage, and cultural resource damage may have resulted. Fire retardant slurry was also dropped from aircraft; the slurry is typically a fertilizer compound that actually aids in the establishment of plants during the recovery period after a fire while, like the water drops, it acted as a retardant to fire spread.

The blading of firebreaks and access roads, while being a means for firefighters to stop the spread of the fire, resulted in adverse impacts from the removal of swaths of vegetation. The removal of this vegetation has resulted in additional disturbed acreage vulnerable to erosion and that is unpleasant in appearance. The acreage involved at LANL has not yet been calculated. It is known that about 40 miles of fuel break line was created using heavy machinery and about 15 miles of fuel break line were created by the use of hand tools around the fire fronts, with about 17 miles of line created both by hand means and using heavy machinery being within the LANL boundaries. The width of these lines varied depending on site conditions and suppression needs. Tree cutting in front of the fire line decreased the amount of vegetation and habitat for small animals and birds, while at the same time helping to control the spread of the fire and thereby protecting infrastructure and buildings from loss or damage. Back fires set intentionally to suppress the wildfire had similar impacts.

The installation and use of a temporary water supply station had minimal environmental effects and helped the firefighters to extinguish the fire and protect property. Over-flights for the purpose of using infrared imagery to access the fire progress resulted in minimal effects and aided firefighters in determining the best locations from which to fight the fire and stage equipment. The installation and use of portable air monitors resulted in minimal environmental effects and provided valuable information.

The post-fire actions, both on-going and to be undertaken in the near term, are more likely to result in major adverse impacts, and will be discussed herein in terms of the bounding significant adverse impacts for which an environmental impact statement would normally have been prepared. Lesser impacts (not likely to be of individually significant nature) would be expected for those activities not specifically identified. The actions most likely to result in significant adverse impacts include the actions taken to remove potential release site legacy environmental contaminants (either in the soil and silt, or buried beneath a soil covering) if this removal involves a large spatial area, and especially if it involves the removal of contamination located within a canyon bottom area within the floodplain. (This would likely result in the removal of additional vegetation and create additional potential for soil erosion; however, it would also decrease the potential for movement downstream of contaminants and the increased spreading out of the contaminant materials.)

Other actions involving significant adverse impacts include the installation of flooding control and hazard reduction structures such as several large earthen berms, dams, sediment traps, and catchment and overflow basins. These would be installed using heavy equipment within floodplain areas and would likely involve the permanent removal of vegetation and soil and possibly substrate removal over tens of acres for each structure; and the local drainage pattern and ecology of each site will be altered. In addition, the potential diversion of stormwater from Pajarito Canyon into Water Canyon (or another canyon) would involve either trenching through tens of feet of rock material comprising the mesa that lies between the two canyons or the tunneling through the mesa to form a subsurface passageway for the water. Impacts would include the use of heavy machinery, trucks, and drilling equipment; the removal and disposal of tons of soil and rock material, part of which potentially could be used elsewhere on site for erosion control and the removal of vegetation and destruction of habitat.

The subsequent diversion of water from one canyon system into another would affect the ecology of both canyons, as well as increase the erosion in Water Canyon (or another similar canyon), including possible scouring and vegetation destruction. Contaminants could move downstream, potentially into the Rio Grande, though these would be expected to be small quantities that may not be readily detectable and would not be expected to result in adverse health effects.

This list of DOE actions is not intended to be all-inclusive. As the assessment of fire effects continues and as the summer rainy season develops, various restoration, flood control and hazard reduction measures may be found to be inadequate or in need of replacement or reinforcement. The list of actions may accordingly be expanded or modified to meet additional needs for repair, replacement, modifications or additional activities.

Most of the actions taken by DOE will result in minor environmental effects similar to those actions conducted by neighboring government agencies (including federal agencies, the pueblos, the State of New Mexico, and local county governments) and private land owners in response to the Cerro Grande Fire and to protect the lives of area residents and workers and the real property located along the path of the fire and within downstream areas. The actions being taken on neighboring lands are limited in nature to those with individually and cumulatively insignificant effects due to extreme site topographical constraints and conditions, together with an implementation time deadline of July 1, 2000. Some of DOE's actions will result in individually significant impacts to the human environment. Further more, the sum of DOE's actions, when considered in conjunction with other actions conducted on neighboring lands, will have cumulatively significant impacts. The overall effects of these cumulative impacts will be positive if the risk of flooding is sufficiently lessened to achieve the desired results, and neutral or adverse if the risk of flooding remains unchanged. It is likely that overall water quality will be slightly adversely affected farther away from the burned areas. By the time the water enters the upper end of Cochiti Reservoir the water quality should be sufficiently good so that no adverse effects may be expected. The nearer to the burned areas one comes, the surface water will become of increasingly poorer quality due to fine particle suspension of ash material and silt, and the transport of larger pieces of charcoal and logs. There are no plans to use surface water to furnish individuals or communities with potable water within the area of concern, however, so potable supplies will not be adversely affected. Some use of the Rio Grande for irrigation, however, may result in slightly adverse effects, or, depending upon the concentration of nutrients, the surface water may have slight positive effects on crops. Contaminants that preferentially adhere to charcoal, or to silt, may move down stream into the Rio Grande and through the Cochiti Reservoir, but due to dilution may not be readily detectable and are not expected to be harmful to the environment or to human health.

If there is flooding, the overall removal of many tons of topsoil over the burn area will be an adverse irreversible effect. The cumulative impact to vegetation, cultural resources, sensitive or threatened and endangered species, wildlife, infrastructure and utilities, recreational use resources, socioeconomic resources, environmental justice issues, and visual resources effects would be significantly adverse if severe flooding were to occur. And the loss of human life due to flooding would be an unacceptable, irreplaceable, and irreversible adverse impact.

Mitigations

Mitigation actions that have been and will continue to be employed when undertaking the flood control, hazard reduction and various recovery actions include: use of certified seed mixes to reduce the potential for the introduction of non-native plant species; use of standard dust suppression means, such as water sprays on construction sites; avoidance of cultural resource sites (trained archeologists are on-site during earth moving activities near known cultural resource sites to help avoid any adverse effects); avoidance of potential habitat areas for Federally-listed threatened and endangered species (trained biologists are on-site during earth moving activities near potential sensitive habitat areas to help avoid any adverse effects); avoidance of PRSs during earth moving activities (unless specifically associated with the planned removal, protection or stabilization of these sites); and the use of best management industry practices when engaged in construction actions.

DOE will continue to monitor the effectiveness and the environmental effects of the emergency actions that it is undertaking and will make appropriate modifications during implementation to mitigate adverse effects.

Compliance Actions

Pursuant to Council on Environmental Quality regulations implementing NEPA under emergency circumstances (40 CFR 1506.11) and DOE's own NEPA implementing regulations (10 CFR 1021.343), DOE has consulted with the Council regarding alternative NEPA compliance arrangements for emergency actions having significant environmental impacts. Because of the urgent need to take action, without delay, to employ flood control and hazard reduction measures before the annual rainy season begins, DOE, consistent with Council on Environmental Quality consultations, will prepare a special environmental analysis of impacts from the emergency fire suppression and the flood control actions taken by DOE. DOE is scheduled to issue the special environmental analysis in September 2000 to LANL stakeholders, including pueblos and tribes, and make it otherwise publicly available through the Internet and in DOE and LANL reading rooms and local public libraries in the following New Mexico communities, towns and cities: Los Alamos, Santa Fe, Española, and Albuquerque. The availability of the document will be published in local area newspapers. All subsequent or other actions undertaken by DOE will be subject to NEPA under the normal compliance process.

This notice also serves as the Public Notice and Statement of Findings regarding DOE's intention to take action involving construction and other actions within floodplains and wetlands pursuant to DOE's regulations for Compliance with Floodplain/Wetlands Environmental Review Requirements (10 CFR part 1022). As provided in 10 CFR 1022.18, and because there is an immediate need to take emergency flood control and hazard reduction actions, DOE is waiving the public review periods that would otherwise apply before DOE would take such actions in a floodplain or wetland.

Public Involvement

DOE will continue to participate in public outreach efforts, including those sponsored by DOE and those coordinated by the BAER Team. Two public meetings have been held at which technical specialists discussed issues of concern with the public, and additional meetings are anticipated as the emergency response actions continue. DOE will continue to employ a variety of mechanisms, including Web sites, press releases, information telephone line, and informal consultations with stakeholders, to facilitate public involvement. A Public Advisory Group is being established that will focus specifically on communications issues as they relate to potential runoff and flood mitigation activities.

The BAER Team has provided information to the public and opportunities for public involvement through several mechanisms including, the establishment of a Web site (www.baerteam.org), regular press releases, an information line (505-603-8942), and individual contacts with members of the public. DOE will continue to coordinate its fire recovery and flood control actions with the interagency team and other stakeholders, and will continue to participate in public meetings.

The public is invited to provide comments on this notice to Elizabeth Withers, NEPA Compliance Officer, at U.S. Department of Energy, Los Alamos Area Office, 528 35th Street, Los Alamos, NM 87544, phone (505) 667-8690 or fax (505) 665-4872. Comments would be considered in developing the special environmental analysis on the emergency actions that have been and are being undertaken.

DOE's emergency action plans will be modified, as appropriate, in response to new information and changing conditions. Monitoring results of the effectiveness and the environmental effects of the emergency actions will be made available to the public. DOE will consider any comments, to the extent practicable, in pursuing adaptive mitigation measures. DOE welcomes comments at any time and will address them to the extent practicable.

Requests for a copy of the special environmental analysis, when available, may be directed to Elizabeth Withers (see above). Copies will also be available on the DOE NEPA Web at http://tis.eh.doe.gov/nepa/. The analysis will be made available to the public and DOE will consider comments received in pursuing adaptive mitigation measures.

Issued at Washington, DC, June 16, 2000.
Henry K. Garson,
NEPA Compliance Officer, Office of the Assistant Administrator for Defense Programs.

[FR Doc. 00-15797 Filed 6-19-00; 1:04 pm]

BILLING CODE 6450-01-P